DEPARTMENT OF THE INTERIOR

Bureau of Land Management

[LLES956000-L14200000-BJ0000-LXSITRST0000]

Eastern States: Filing of Plat of Survey

AGENCY: Bureau of Land Management, Interior.

ACTION: Notice of Filing of Plat of Survey; Alabama.

SUMMARY: The Bureau of Land Management (BLM) will file the plat of survey of the lands described below in the BLM-Eastern States office in Springfield, Virginia, 30 calendar days from the date of publication in the Federal Register.

FOR FURTHER INFORMATION CONTACT: Bureau of Land Management-Eastern States, 7450 Boston Boulevard, Springfield, Virginia 22153. Attn: Cadastral Survey.

SUPPLEMENTARY INFORMATION: The survey was requested by the Bureau of Indian Affairs.

The lands surveyed are:

St. Stephens Meridian, Alabama

T. 17 N., R. 19 E.

The plat of survey represents the dependent resurvey of Parcel No. 17, land held in trust for the Poarch Band of the Creek Indians, in Township 17 North, Range 19 East, of the St. Stephens Meridian, in the State of Alabama, and was accepted September 28, 2010.

We will place a copy of the plat we described in the open files. It will be available to the public as a matter of information.

If BLM receives a protest against the survey, as shown on the plat, prior to the date of the official filing, we will stay the filing pending our consideration of the protest.

We will not officially file the plat until the day after we have accepted or dismissed all protests and they have become final, including decisions on appeals.

Dated: December 14, 2010.
Dominica Van Koten,
Chief Cadastral Surveyor.

[FR Doc. 2010-31984 Filed 12-20-10; 8:45 am]

BILLING CODE 4310-GJ-P